DEPARTMENT OF COMMERCE

Foreign-Trade Zones Board

[Order No. 1840]

Reorganization of Foreign-Trade Zone 64 (Expansion of Service Area) Under Alternative Site Framework Jacksonville, FL

Pursuant to its authority under the Foreign-Trade Zones Act of June 18, 1934, as amended (19 U.S.C. 81a-81u), the Foreign-Trade Zones Board (the Board) adopts the following Order:

Whereas, the Board adopted the alternative site framework (ASF) (74 FR 1170, 01/12/2009; correction 74 FR 3987, 01/22/2009; 75 FR 71069-71070, 11/22/2010) as an option for the establishment or reorganization of general-purpose zones;

Whereas, the Jacksonville Port Authority, grantee of Foreign-Trade Zone 64, submitted an application to the Board (FTZ Docket 18-2012, filed 03/19/2012) for authority to expand the service area of the zone to include Bradford, Putnam and St. Johns Counties, as described in the application, within and adjacent to the Jacksonville, Florida, U.S. Customs and Border Protection port of entry;

Whereas, notice inviting public comment was given in the Federal Register (77 FR 17012-17013, 03/23/2012) and the application has been processed pursuant to the FTZ Act and the Board's regulations; and,

Whereas, the Board adopts the findings and recommendations of the examiner's report, and finds that the requirements of the FTZ Act and the Board's regulations are satisfied, and that the proposal is in the public interest;

Now, therefore, the Board hereby orders:

The application to reorganize FTZ 64 to expand the service area under the alternative site framework is approved, subject to the FTZ Act and the Board's regulations, including Section 400.13, and to the Board's standard 2,000-acre activation limit for the overall general-purpose zone project.

Signed at Washington, DC, this 5th day of July 2012.
Paul Piquado,
Assistant Secretary of Commerce for Import Administration, Alternate Chairman, Foreign-Trade Zones Board.

[FR Doc. 2012-17159 Filed 7-12-12; 8:45 am]

BILLING CODE P